DEPARTMENT OF JUSTICE

Membership of the 2000 Senior Executive Service Performance Review Boards

AGENCY: Department of Justice.

ACTION: Notice of Department of Justice's 2000 Senior Executive Service Performance Review Boards.

SUMMARY: Pursuant to the requirements of 5 U.S.C. 4314(c)(4), the Department of Justice announces the membership of its Senior Executive Service (SES) Performance Review Boards (PRBs). The purpose of the PRBs is to provide fair and impartial review of SES performance appraisals and bonus and recertification recommendations. The PRBs will make recommendations regarding the final performance ratings to be assigned, SES bonuses to be awarded, and the recertification of SES career appointees.

FOR FURTHER INFORMATION CONTACT: Joanne W. Simms, Director, Personnel Staff, Justice Management Division, Department of Justice, Washington, DC 20530; (202) 514-6788.

Department of Justice, 2000 Senior Executive Service Performance Review Board Members

Community Oriented Policing Services

Dennis E. Greenhouse, Deputy Director

Office of the Solicitor General

Lawrence G. Wallace, Deputy Solicitor General

Office of Legal Counsel

Robert J. Delahunty, Special Counsel

Office of Professional Responsibility

H. Marshall Jarrett, Counsel on Professional Responsibility

Office of Intelligence Policy and Review

James A. Baker, Deputy Counsel for Intelligence Operations

Office of Policy Development

Kevin R. Jones, Deputy Assistant Attorney General

Office of Information and Privacy

Daniel J. Metcalfe, Director (Policy and Litigation)

Antitrust Division

Willie L. Hudgins, Assistant Chief, Litigation II Section

Mary Jean Moltenbrey, Deputy Director of Operations

Anthony V. Nanni, Chief, Litigation I Section

Kenneth Heyer, Chief, Competition Policy Section

Civil Division

Gary W. Allen, Director, Aviation and Admiralty Litigation, Torts Branch

Felix V. Baxter, Director, Federal Programs Branch

JoAnn J. Bordeaux, Deputy Director, Environmental Tort Litigation, Torts Branch

Vito J. Dipietro, Director, Intellectual Property Litigation, Commercial Litigation Branch

J. Patrick Glynn, Director, Environmental Tort Litigation, Torts Branch

Thomas W. Hussey, Director, Office of Immigration Litigation

J. Christopher Kohn, Director, Corporate/Financial Litigation, Commercial Litigation Branch

Neil H. Koslowe, Special Litigation Counsel, Federal Programs Branch

Sheila M. Lieber, Deputy Director, Federal Programs Branch

Mark B. Stern, Appellate Litigation Counsel, Appellate Staff

Civil Rights Division

Merrily A. Friedlander, Chief, Coordination and Review Section

Katherine A. Baldwin, Chief, Employment Litigation Section

David K. Flynn, Chief, Appellate Section

Joan A. Magagna, Chief, Housing and Civil Enforcement Section

Criminal Division

Joseph E. Gangloff, Principal Deputy Chief, Public Integrity Section

Terry R. Lord, Chief, Chief Exploitation & Obscenity Section

Maureen H. Killion, Senior Associate Director, Office of Enforcement Operations

Thomas G. Snow, Deputy Director, Office of International Affairs

Environment and Natural Resources Division

Virginia P. Butler, Chief, Land Acquisition Section

Robert L. Bruffy, Executive Officer

Walker B. Smith, Deputy Section Chief, Environmental Enforcement Section

Pauline H. Millius, Chief, Policy, Legislation & Special Litigation Section

Justice Management Division

Linda A. Cinciotta, Director, Office of Attorney Personnel Management

Stuart Frisch, General Counsel

Michael A. Perez, Associate Director for Financial Management

Tax Division

Stephen J. Csontos, Senior Legislative Counsel

Robert S. Watkins, Section Chief, Civil Trial Section, Central Region

Joseph E. Young, Executive Officer

Bureau of Prisons

Keith E. Hall, Assistant Director, Human Resources Management Division

James B. Jones, Deputy Assistant Director, Administration Division

Thomas R. Kane, Assistant Director, Information, Policy, and Public Affairs

Bruce K. Sasser, Assistant Director, Administration Division

Morris L. Thigpen, Sr., Director, National Institute of Corrections

Ronald J. Waldron, Senior Deputy Assistant Director, Industries, Education, and Vocational Training

Immigration and Naturalization Service

John P. Chase, Director of Internal Audit

Gustavo De La Viña, Assistant Commissioner for Border Patrol

Carol A. Hall, Assistant Commissioner for Human Resources and Development

Michel A. Pearson, Executive Associate Commissioner for Field Operations

Jeffrey L. Weiss, Director, Asylum Division

David A. Yentzer, Assistant Commissioner for Administration

United States Marshals Service

Suzanne D. Smith, Assistant Director for Human Resources

Office of Justice Programs

Gary N. Silver, Director, Office of Administration

Executive Office for Immigration Review

Jack E. Perkins, Chief Administrative Hearing Officer

Executive Office for United States Attorneys

Michael W. Bailie, Director, Office of Legal Education

David W. Downs, Deputy Director for Operations

Frank M. Kalder, Deputy Director for Financial Management

Executive Office for United States Trustees

Jeffrey M. Miller, Associate Director

Valerie M. Willis,
Executive Secretary, Senior Executive Resources Board.

[FR Doc. 00-12480 Filed 5-17-00; 8:45 am]

BILLING CODE 4410-AR-M